DEPARTMENT OF THE INTERIOR

Bureau of Land Management

[AK-921-1410-BK-P]

Alaska; Notice for Publication; Filing of Plat of Survey; Alaska

The plat of survey of the following described land was officially filed in the Alaska State Office, Anchorage, Alaska, on the date indicated.

A plat representing the dependent resurvey of U.S. Survey No. 3440, Alaska, Tracts 1 and 2, situated on Nonvianuk Lake, approximately 60 miles northeasterly from King Salmon, Alaska, was accepted November 30, 2001, and was officially filed February 11, 2002.

This plat was prepared at the request of the National Park Service to delineate the surrounding public lands.

This plat will immediately become the basic record for describing the land for all authorized purposes. This survey has been placed in the open files in the Alaska State Office and is available to the public as a matter of information.

All inquires relating to these lands should be sent to the Alaska State Office, Bureau of Land Management, 222 West Seventh Avenue, #13, Anchorage, Alaska 99513-7599; 907-267-1403.

Daniel L. Johnson,
Chief, Branch of Field Surveys.

[FR Doc. 02-8881 Filed 4-11-02; 8:45 am]

BILLING CODE 1410-BK-P